FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 200233-018.

Title: Lease and Operating Agreement between Philadelphia Regional Port Authority and Astro Holdings, Inc for Packer Avenue Marine Terminal.

Parties: Philadelphia Regional Port Authority and Astro Holdings, Inc.

Filing Party: Denise M. Brumbaugh; Philadelphia Regional Port Authority; 3460 N. Delaware Avenue; Philadelphia, PA 19134.

Synopsis: The amendment updates the specific uses for the facility which are set forth in Section 1.4 of the Lease with the specific cargo categories to be handled at the facility set forth in Exhibit H to the Agreement.

Agreement No.: 201048-009.

Title: Lease and Operating Agreement between Philadelphia Regional Port Authority and Delaware River Stevedores, Inc.

Parties: Philadelphia Regional Port Authority and Delaware River Stevedores, Inc.

Filing Party: Denise M. Brumbaugh; Philadelphia Regional Port Authority; 3460 N. Delaware Avenue; Philadelphia, PA 19134.

Synopsis: The amendment updates the specific uses for the facility which are set forth in Section 1.3 of the Lease with the specific cargo categories to be handled at the facility set forth in Exhibit H to the Agreement.

By Order of the Federal Maritime Commission.
Dated: December 30, 2016.
Rachel E. Dickon,
Assistant Secretary.

[FR Doc. 2016-32018 Filed 1-4-17; 8:45 am]

BILLING CODE 6731-AA-P